DEPARTMENT OF COMMERCE

International Trade Administration

[A-552-833]

Raw Honey From the Socialist Republic of Vietnam: Final Results of Antidumping Duty Administrative Review; 2021-2023

AGENCY: Enforcement and Compliance, International Trade Administration, Department of Commerce.

SUMMARY: The U.S. Department of Commerce (Commerce) determines that Ban Me Thout Honeybee Joint Stock Company (BMT) and DakLak Honeybee Joint Stock Company (DakHoney), sold raw honey from the Socialist Republic of Vietnam (Vietnam) in the United States at less than normal value during the period of review (POR) August 25, 2021, through May 31, 2023.

DATES: Applicable April 14, 2025.

FOR FURTHER INFORMATION CONTACT: Krisha Hill or Stephanie Trejo, AD/CVD Operations, Office IV, Enforcement and Compliance, International Trade Administration, U.S. Department of Commerce, 1401 Constitution Avenue NW, Washington, DC 20230; telephone: (202) 482-4037 or (202) 482-4390, respectively.

SUPPLEMENTARY INFORMATION:

Background

On July 5, 2024, Commerce published the Preliminary Results of the 2021-2023 administrative review of the antidumping duty (AD) order on raw honey from Vietnam.¹ We invited interested parties to comment on the Preliminary Results. For details of the events that occurred since the Preliminary Results, see the Issues and Decision Memorandum.²

¹ See Raw Honey From the Socialist Republic of Vietnam: Preliminary Results of Antidumping Duty Administrative Review; 2021-2023, 89 FR 55554 (July 5, 2024) (Preliminary Results), and accompanying Preliminary Decision Memorandum (PDM).

² See Memorandum, ” Issues and Decision Memorandum for the Final Results of the 2021-2023 Administrative Review of the Antidumping Duty Order on Raw Honey from the Socialist Republic of Vietnam,” dated concurrently with, and hereby adopted by, this notice (Issues and Decision Memorandum).

Scope of the Order ³

³ See Raw Honey From Argentina, Brazil, India, and the Socialist Republic of Vietnam: Antidumping Duty Orders, 87 FR 35501 (June 10, 2022) (Order).

The product covered by this order is raw honey from Vietnam. For a full description of the scope of the Order, see the Issues and Decision Memorandum.

Analysis of Comments Received

A summary of the events that occurred since Commerce published the Preliminary Results, as well as a full discussion of the issues raised by parties for these final results, may be found in the Issues and Decision Memorandum.⁴ A list of the issues that parties raised and to which we responded in the Issues and Decision Memorandum is provided in the appendix to this notice. The Issues and Decision Memorandum is a public document and is on file electronically via Enforcement and Compliance's Antidumping and Countervailing Duty Centralized Electronic Service System (ACCESS). ACCESS is available to registered users at https://access.trade.gov. In addition, a complete version of the Issues and Decision Memorandum can be accessed directly at https://access.trade.gov/public/FRNoticesListLayout.aspx.

⁴ See Issues and Decision Memorandum.

Changes Since the Preliminary Results

Based on a review of the record and the comments received from interested parties, and for the reasons explained in the Issues and Decision Memorandum, we made certain changes to the preliminary weighted-average dumping margin calculations for BMT and DakHoney. For further discussion of these changes, see the Issues and Decision Memorandum.

Separate Rates

No parties commented on our preliminary separate rate determination. Therefore, we have continued to grant separate rate status to 15 companies/company groups listed in the “Final Results of Review” section, below. Additionally, consistent with the Preliminary Results, we have continued to deny separate rate status to the following companies: (1) Bee Honey Corporation of Ho Chi Minh City; (2) Golden Bee Company Limited; (3) Golden Honey Co., Ltd.; (4) Hai Phong Honeybee Company Limited; (5) Highlands Honeybee Travel Co., Ltd.; (6) Hoa Viet Honeybee Co., Ltd.; (7) Hung Binh Phat; (8) Hung Thinh Trading Pvt; (9) Huong Rung Co., Ltd.; (10) Huong Viet Honey Co., Ltd.; (11) Nguyen Hong Honey Co., LTDTA; (12) Phong Son Co., Ltd.; (13) Saigon Bees Co., Limited; (14) Thai Hoa Mat Bees Raising Co., Ltd.; (15) Thai Hoa Viet Mat Bees Raising Co.; (16) TNB Foods Co., Ltd.; and (17) Vinawax Producing Trading and Service Company Limited.⁵

⁵ See Raw Honey From the Socialist Republic of Vietnam: Preliminary Results of Antidumping Duty Administrative Review; 2021-2023, 89 FR 55554 (July 5, 2024).

Rate for Non-Examined Separate Rate Respondents

The statue and Commerce's regulations do not address what rate to apply to respondents not selected for individual examination when Commerce limits its examination in an administrative review pursuant to section 777A(c)(2) of the Act. Generally, Commerce looks to section 735(c)(5) of the Act, which provides instructions for calculating the all-others rate in an investigation, for guidance when calculating the rate for non-selected respondents that are not examined individually in an administrative review. Section 735(c)(5)(A) of the Act states that the all-others rate should be calculated by averaging the weighted-average dumping margins for individually-examined respondents, excluding rates that are zero, de minimis, or based entirely on facts available. When the rates for individually examined companies are all zero, de minimis, or based entirely on facts available, section 735(c)(5)(B) of the Act provides that Commerce may use “any reasonable method” to establish the all-others rate.

We calculated a 100.72 percent dumping margin for one of the mandatory respondents in this review, BMT, and a 156.96 percent dumping margin for the other mandatory respondent, DakHoney. Therefore, we assigned the separate rate respondents identified in the rate chart below, a dumping margin equal to the weighted average of the dumping margins for BMT and DakHoney,⁶ consistent with the guidance in section 735(c)(5)(A) of the Act.⁷

⁶ With two respondents under examination, Commerce normally calculates: (A) a weighted-average of the dumping margins calculated for the examined respondents; (B) a simple average of the dumping margins calculated for the examined respondents; and (C) a weighted-average of the dumping margins calculated for the examined respondents using each company's publicly ranged U.S. sale quantities for the merchandise under consideration. Commerce then compares (B) and (C) to (A) and selects the rate closest to (A) as the most appropriate rate for all other producers and exporters. See, e.g., Ball Bearings and Parts Thereof from France, Germany, Italy, Japan, and the United Kingdom: Final Results of Antidumping Duty Administrative Reviews, Final Results of Changed Circumstances Review, and Revocation of an Order in Part, 75 FR 53661, 53663 (September 1, 2010).

⁷ See Memorandum, “Final Calculation of the Dumping Margin for Respondents Not Selected for Individual Examination,” dated concurrently with, and hereby adopted by, this notice for the discussion of this issue.

Final Results of Review

We determine that the following dumping margins exist for the period August 25, 2021, through May 31, 2023:

Exporter | Weighted-average dumping margin (percent)
Ban Me Thuot Honeybee Joint Stock Company | 100.72
Daklak Honeybee Joint Stock Company | 156.96
Bao Nguyen Honeybee Co., Ltd | 121.97
Daisy Honey Bee Joint Stock Company | 121.97
Dak Nguyen Hong Exploitation of Honey Company Limited TA | 121.97
Dongnai HoneyBee Corporation | 121.97
Hanoi Honey Bee Joint Stock Company | 121.97
Hoa Viet Honeybee One Member Company Limited | 121.97
Hoang Tri Honey Bee Co., Ltd | 121.97
Huong Rung Trading-Investment and Export Company Limited | 121.97
Nhieu Loc Company Limited | 121.97
Southern Honey Bee Company Ltd | 121.97
Spring Honeybee Co., Ltd | 121.97
Thanh Hao Bees Co., Ltd | 121.97
Viet Thanh Food Co., Ltd | 121.97

Disclosure

Pursuant to 19 CFR 351.224(b), we will disclose the calculations we performed for these final results to the parties to this proceeding within five days of the publication of this notice in the Federal Register.

Assessment Rates

Pursuant to section 751(a)(2)(C) of the Act and 19 CFR 351.212(b)(1), Commerce will determine, and U.S. Customs and Border Protection (CBP) shall assess, antidumping duties on all appropriate entries of subject merchandise covered by the final results of this review. Commerce intends to issue assessment instructions to CBP no earlier than 35 days after the publication date of these final results in the Federal Register. If a timely summons is filed at the U.S. Court of International Trade, the assessment instructions will direct CBP not to liquidate relevant entries until the time for parties to file a request for a statutory injunction has expired (i.e., within 90 days of publication).

For each individually examined respondent in this review whose weighted-average dumping margin in the final results of review is not zero or de minimis (i.e., less than 0.5 percent), Commerce intends to calculate importer/customer-specific assessment rates.⁸ Where the respondent reported reliable entered values, Commerce intends to calculate importer/customer-specific ad valorem assessment rates by aggregating the amount of dumping calculated for all U.S. sales to the importer/customer and dividing this amount by the total entered value of the merchandise sold to the importer/customer.⁹ Where the respondent did not report entered values, Commerce will calculate importer/customer-specific assessment rates by dividing the amount of dumping for reviewed sales to the importer/customer by the total quantity of those sales. Commerce will calculate an estimated ad valorem importer/customer-specific assessment rate to determine whether the per-unit assessment rate is de minimis; however, Commerce will use the per-unit assessment rate where entered values were not reported.¹⁰ Where an importer/customer-specific ad valorem assessment rate is not zero or de minimis, Commerce will instruct CBP to collect the appropriate duties at the time of liquidation. Where either the respondent's weighted average dumping margin is zero or de minimis, or an importer/customer-specific ad valorem assessment rate is zero or de minimis, Commerce will instruct CBP to liquidate appropriate entries without regard to antidumping duties.¹¹

⁸ See Antidumping Proceedings: Calculation of the Weighted Average Dumping Margin and Assessment Rate in Certain Antidumping Proceedings: Final Modification, 77 FR 8101 (February 14, 2012) (Final Modification).

⁹ See 19 CFR 351.212(b)(1).

¹⁰ Id.

¹¹ See Final Modification, 77 FR at 8103.

Pursuant to Commerce's refinement to its practice, for sales that were not reported in the U.S. sales database submitted by a respondent individually examined during this review, Commerce will instruct CBP to liquidate the entry of such merchandise at the dumping margin assigned to the Vietnam-wide entity (i.e., 60.03 percent).¹² For respondents not individually examined in this administrative review that qualified for a separate rate, the assessment rate will be equal to the weighted-average dumping margin assigned to the respondents in these final results of review.¹³

¹² For a full discussion of this practice, see Non-Market Economy Antidumping Proceedings: Assessment of Antidumping Duties, 76 FR 65694 (October 24, 2011); see also, Raw Honey From the Socialist Republic of Vietnam: Final Affirmative Determination of Sales at Less Than Fair Value and Final Affirmative Determination of Critical Circumstances, 87 FR 22184 (April 14, 2022).

¹³ See Drawn Stainless Steel Sinks from the People's Republic of China: Preliminary Results of the Antidumping Duty Administrative Review and Preliminary Determination of No Shipments: 2014-2015, 81 FR 29528 (May 12, 2016), and accompanying PDM at 10-11, unchanged in Drawn Stainless Steel Sinks from the People's Republic of China: Final Results of Antidumping Duty Administrative Review; Final Determination of No Shipments; 2014-2015, 81 FR 54042 (August 15, 2016).

Additionally, where Commerce determines that an exporter under review had no shipments of subject merchandise to the United States during the POR, any suspended entries of subject merchandise that entered under that exporter's CBP case number during the POR will be liquidated at the dumping margin assigned to the Vietnam-wide entity.

In accordance with section 751(a)(2)(C) of the Act, the final results of this review shall be the basis for the assessment of antidumping duties on entries of merchandise covered by the final results of this review and for future deposits of estimated antidumping duties, where applicable.

Cash Deposit Requirements

The following cash deposit requirements will be effective for all shipments of the subject merchandise entered, or withdrawn from warehouse, for consumption on or after the publication date of the final results of this administrative review, as provided by section 751(a)(2)(C) of the Act: (1) for the exporters listed above, the cash deposit rate will be equal to the weighted-average dumping margins established in the final results of this review, except if the rate is de minimis, in which case the cash deposit rate will be zero; (2) for previously-examined Vietnamese and non-Vietnamese exporters not listed above that at the time of entry are eligible for a separate rate base on a prior completed segment of this proceeding, the cash deposit rate will continue to the be the existing exporter-specific cash deposit rate; (3) for all Vietnam exporters of subject merchandise that have not been found to be entitled to a separate rate, the cash deposit rate will be the rate previously established for the Vietnam-wide entity (60.03 percent); and (4) for all non-Vietnamese exporters of subject merchandise which at the time of entry do not have a separate rate, the cash deposit rate will be the rate applicable to the Vietnamese exporter that supplied the non-Vietnamese exporter. These cash deposit requirements, when imposed, shall remain in effect until further notice.

Notification of Importers

This notice serves as a final reminder to importers of their responsibility under 19 CFR 351.402(f)(2) to file a certificate regarding the reimbursement of antidumping duties prior to liquidation of the relevant entries during the POR. Failure to comply with this requirement could result in Commerce's presumption that reimbursement of antidumping duties has occurred and the subsequent assessment of double antidumping duties.

Administrative Protective Order (APO)

This notice also serves as a final reminder to parties subject to an APO of their responsibility to return or destroy proprietary information disclosed under an APO in accordance with 19 CFR 351.305(a)(3), which continues to govern business proprietary information in this segment of the proceeding. Timely written notification of the return or destruction of APO materials or conversion to judicial protective order is hereby requested. Failure to comply with the regulations and terms of an APO is a violation subject to sanction.

Notification to Interested Parties

Commerce is issuing and publishing the final results of this review in accordance with sections 751(a)(1) and 777(i)(1) of the Act, and 19 CFR 351.221(b)(5).

Dated: April 7, 2025.
Christopher Abbott,
Deputy Assistant Secretary for Policy and Negotiations, performing the non-exclusive functions and duties of the Assistant Secretary for Enforcement and Compliance.

Appendix

List of Topics Discussed in the Issues and Decision Memorandum

I. Summary

II. Background

III. Scope of the Order

IV. Changes Since the Preliminary Results

V. Discussion of the Issues

Comment 1: Whether Commerce Should Apply Partial Adverse Facts Available (AFA) to Account for DakLak Honeybee Joint Stock Company (DakHoney)'s Failure To Report Drum Yield Loss

Comment 2: Whether Commerce Should Apply Partial AFA To Account for DakHoney's Failure To Submit a Revised Factors of Production (FOP) Database Using Actual Weight

Comment 3: Whether Commerce Should Apply Partial AFA To Address Certain Errors Found at Verification for DakHoney

Comment 4: Whether Egypt is a Significant Producer of Raw Honey

Comment 5: Selection of Surrogate Country

Comment 6: Surrogate Value (SV) for Raw Honey

Comment 7: SV for Drums

Comment 8: Selection of Surrogate Financial Statements

VI. Recommendation

[FR Doc. 2025-06287 Filed 4-11-25; 8:45 am]

BILLING CODE 3510-DS-P